DEPARTMENT OF AGRICULTURE

Rural Utilities Service

7 CFR Part 1779

Rural Housing Service

7 CFR Part 3575

Rural Business-Cooperative Service

Rural Utilities Service

7 CFR Parts 4279 and 4280

Rural Business-Cooperative Service

Rural Housing Service

Rural Utilities Service

7 CFR Part 5001

[FR Doc. E9-813]

RIN 0570-AA65

Rural Development Guaranteed Loans

AGENCIES: Rural Business-Cooperative Service, Rural Housing Service, Rural Utilities Service, USDA.

ACTION: Delay of effective date; request for public comment on a further delay of the effective date.

SUMMARY: This document seeks public comment on a proposal to delay for 104 days the effective date of the interim rule, for Rural Development Guaranteed Loans, which was published on December 17, 2008. The interim rule establishes a unified guaranteed loan platform for the enhanced delivery of four existing Rural Development guaranteed loan programs—Community Facility; Water and Waste Disposal; Business and Industry; and Rural Energy for America Program, formerly known as Renewable Energy Systems and Energy Efficiency Improvement Projects. The Department seeks comments on whether or not it should delay the effective date of the interim rule until June 1, 2009, in order to provide the Agency sufficient time to implement certain administrative aspects associated with the interim rule. For that reason, the Department is seeking comments on the merits of extending the effective date of the interim rule to June 1, 2009. In order to allow sufficient time for public comment on the Agency's proposal to further extend the effective date until June 1, 2009, this document extends the current effective date from February 17, 2009, to March 9, 2009, pursuant to the “good cause” clause under the Administrative Procedures Act (5 U.S.C. 553(b)(3)(B)).

DATES: The effective date of the interim rule, which was published on December 17, 2008 [73 FR 76698], delayed until February 17, 2009 [74 FR 2823], is further delayed until March 9, 2009.

Comments on extending the effective date to June 1, 2009, must be received on or before February 20, 2009.

ADDRESSES: Submit your comments by one of the following methods:

• Federal eRulemaking Portal: http://www.regulations.gov. Follow the instructions for submitting comments.

• Mail: Submit written comments via the U.S. Postal Service to the Branch Chief, Regulations and Paperwork Management Branch, U.S. Department of Agriculture, Stop 0742, 1400 Independence Avenue, SW., Washington, DC 20250-0742.

• Hand Delivery/Courier: Submit written comments via Federal Express Mail or other courier service requiring a street address to the Branch Chief, Regulations and Paperwork Management Branch, U.S. Department of Agriculture, 300 7th Street, SW., 7th Floor, Washington, DC 20024.

All written comments will be available for public inspection during regular work hours at the 300 7th Street, SW., 7th Floor address listed above.

FOR FURTHER INFORMATION CONTACT: Mr. Michael Foore, Rural Development, Business and Cooperative Programs, U.S. Department of Agriculture, 1400 Independence Avenue, SW., Stop 3201, Washington, DC 20250-3201; e-mail: Michael.Foore@wdc.usda.gov; telephone (202) 690-4730.

SUPPLEMENTARY INFORMATION: On January 16, 2009, Rural Development delayed the original effective date of the interim rule from January 16, 2009, to February 17, 2009, because there was insufficient time to correct a technical error in the interim rule before the interim rule became effective on January 16, 2009.

Since then, Rural Development has identified several administrative actions, including providing the best guidance it can to its field staff on the interim rule, that it believes are necessary to occur prior to the effective date of the interim rule in order to ensure the successful implementation of the interim rule. Rural Development believes that extending the effective date is needed in order to provide Rural Development the necessary time to implement these administrative actions.

Because there is insufficient time between now and February 17, 2009, to solicit and consider public comment on Rural Development's proposed new effective date of June 1, 2009, the Agency is extending the effective date to March 9, 2009, without public comment. Rural Development is making this change because we believe we have good cause to do so, as is provided for under the Administrative Procedures Act (5 U.S.C. 553(b)(3)(B)), because:

1. The implementation of the interim rule on February 17, 2009, would create substantial legal and operational risks to the affected programs because the Agency needs more time to make changes to accounting and financial control information technology systems critical to the delivery of these programs and to prepare field staff. These actions cannot be completed by February 17, 2009.

2. This extension allows the public a reasonable opportunity to comment on this proposed extension of the effective date to June 1, 2009, and for the Agency to consider such comments before making the decision to June 1, 2009.

Lastly, consistent with the January 20, 2009, memo from the Assistant to the President and Chief of Staff, entitled “Regulatory Review,” the extension will enable the Agency to finish the 60-day review described in this memo during this proposed extension of the effective date.

Dated: February 9, 2009.
William F. Hagy III,
Acting Deputy Under Secretary, Rural Development.

[FR Doc. E9-3092 Filed 2-12-09; 8:45 am]

BILLING CODE 3410-XY-P